DEPARTMENT OF TRANSPORTATION

Federal Aviation Administration

Proposed Advisory Circular 25.1353-1X, Electrical Equipment and Installations

AGENCY: Federal Aviation Administration (FAA), DOT.

ACTION: Notice of availability of proposed Advisory Circular (AC) 25.1353-1X and request for comments.

SUMMARY: This notice announces the availability of and requests comment on a proposed advisory circular (AC) that provides methods acceptable to the Administrator for showing compliance with the airworthiness standards for electrical equipment on transport category airplanes. The guidance provided in the AC supplements the engineering and operational judgment that must form the basis of any compliance findings relative to electrical installation and nickel cadmium installation to minimize the hazards to an airplane. This notice is necessary to give all interested persons an opportunity to present their views on the proposed AC.

DATES: Comments must be received on or before June 15, 2001.

ADDRESSES: Send all comments on the proposed AC to: Federal Aviation Administration, Attn: Stephen Slotte, FAA, Transport Airplane Directorate, Aircraft Certification Service, Airplane and Flightcrew Branch, ANM-111, 1601 Lind Avenue SW., Renton, Washington 98055-4056. Comments may be inspected at the above address between 7:30 a.m. and 4 p.m. weekdays, except Federal holidays.

FOR FURTHER INFORMATION CONTACT: Susan Boylon, Standardization Branch, ANM-113, Transport Airplane Directorate, FAA, 1601 Lind Avenue SW., Renton, Washington 98055-4056; telephone (425) 227-1152.

SUPPLEMENTARY INFORMATION:

Comments Invited

Interested persons are invited to comment on the proposed AC by submitting such written data, views, or arguments as they may desire. Commenters must identify the AC by title and submit comments in duplicate to the address specified above. The Transport Airplane Directorate will consider all communications received on or before the closing date for comments before issuing the final AC.

Availability of Proposed AC

The proposed AC can be found and downloaded from the Internet at http://www.faa.gov/avr/air/airhome.htm, at the link titled “Draft AC's” under the “Available Information” drop-down menu. A paper copy of the proposed AC may be obtained by contacting the person named above under the caption FOR FURTHER INFORMATION CONTACT.

Discussion

Proposed AC 25.1353-1X, “Electrical Equipment and Installations,” has been prepared to provide guidance on one means of demonstrating compliance with the requirements of § 25.1353, “Electrical Equipment and Installations,” of Title 14, Code of Federal Regulations (CFR) part 25, commonly referred to as part 25 of the Federal Aviation Regulations (FAR). Part 25 contains the airworthiness standards applicable to transport category airplanes.

The means of compliance described in proposed AC 25.1353-1X is intended to provide guidance to supplement the engineering and operational judgment that must form the basis of any compliance findings relative to paragraph §§ 25.1353(a) and 25.1353(c)(6). These paragraphs concern electrical equipment, nickel cadmium battery installations, and nickel cadmium battery storage.

In accordance with the requirements of § 25.1353(a), show compliance by considering the following sources of interference:

a. Conducted and radiated interference caused by electrical noise generation from apparatus connected to the busbars,

b. Coupling between electrical cables or between cables and aerial feeders,

c. Malfunctioning of electrically-powered apparatus,

d. Parasitic currents and voltages in the electrical distribution and earth systems, including the affects of lightning currents or static discharge,

e. Difference frequencies between generating or other systems, and

f. The requirements of § 25.1309 should also be satisfied.

In accordance with the requirements § 25.1353(c)(6)(ii) and (iii), show compliance by demonstrating the following:

a. Where temperature sensing and over-temperature warning devices are installed to comply with § 25.1353(c)(6)(ii) or (iii), their correct operations should be verified at agreed maintenance intervals in addition to compliance with § 25.1309(a) and (b).

Harmonization of Standards and Guidance

The proposed AC is based on recommendations submitted to the FAA by the Aviation Rulemaking Advisory Committee (ARAC). The FAA tasked ARAC (63 FR 50954, September 23, 1998) to provide advice and recommendations on “harmonizing” certain sections of part 25 with the counterpart standards contained in Joint Aviation Requirements (JAR) 25. The goal of “harmonization tasks,” such as this, is to ensure that:

• Where possible, standards and guidance do not require domestic and foreign parties to manufacture or operate to different standards for each country involved; and

• The standards and guidance adopted are mutually acceptable to the FAA and the foreign aviation authorities.

The guidance contained in the proposed AC has been harmonized with that of the JAA, and provides a method of compliance that has been found acceptable to both the FAA and JAA.

Issued in Renton, Washington, on May 3, 2001.
Lirio Liu Nelson,
Acting Manager, Transport Airplane Directorate, Aircraft Certification Service.

[FR Doc. 01-12197 Filed 5-16-01; 8:45 am]

BILLING CODE 4910-13-P